DEPARTMENT OF LABOR

Employment and Training Administration

[TA-W-57,930]

Cabinet Industries, Inc., Danville, PA; Dismissal of Application for Reconsideration

Pursuant to 29 CFR 90.18(C) an application for administrative reconsideration was filed with the Director of the Division of Trade Adjustment Assistance for workers at Cabinet Industries, Inc., Danville, Pennsylvania. The application contained no new substantial information which would bear importantly on the Department's determination. Therefore, dismissal of the application was issued.

TA-W-57,930; Cabinet Industries, Inc. Danville, Pennsylvania (November 17, 2005).

Signed at Washington, DC, this 18th day of November 2005.
Erica R. Cantor,
Director, Division of Trade Adjustment Assistance.

[FR Doc. E5-6997 Filed 12-6-05; 8:45 am]

BILLING CODE 4510-30-P